DEPARTMENT OF JUSTICE

Antitrust Division

Notice Pursuant to the National Cooperative Research and Production Act of 1993—Joint Venture Under Tip Award No. 70NANB9H9007

Notice is hereby given that, on February 2, 2009, pursuant to Section 6(a) of the National Cooperative Research and Production Act of 1993, 15 U.S.C. 4301 et seq. (“the Act”) Joint Venture under TIP Award No. 70NANB9H9007 (“70NANB9H9007”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Mistras Group Inc. DEA Physical Acoustics Corporation, Princeton Junction, NJ; University of Miami, Coral Gables, FL; University of South Carolina, Columbia, SC; and Virginia Polytechnic Institute and State University, Blacksburg, VA.

The general area of 70NANB9H9007's planned activity is to perform cooperative research for developing a self-powered wireless sensor network for structural bridge health prognosis.

Patricia A. Brink,
Deputy Director of Operations, Antitrust Division.

[FR Doc. E9-6378 Filed 3-25-09; 8:45 am]

BILLING CODE